DEPARTMENT OF THE INTERIOR

Geological Survey

[GX17EN05ESB0500]

Announcement of Public Briefing on Development of a Database of Greenhouse Gas Emissions Associated With Fossil Fuel Extraction From Federal Lands

AGENCY: U.S. Geological Survey, Department of the Interior.

ACTION: Notice of Meeting.

SUMMARY: USGS will conduct a public briefing on its work to develop a publicly accessible database on the greenhouse gas emissions associated with extraction of fossil fuels from federal lands.

DATES: The meeting will be held on Friday, December 2, 2016 from 9 a.m. to 11 a.m. ET.

ADDRESSES: The meeting will be held in the USGS Auditorium (1C111), USGS National Center, 12201 Sunrise Valley Drive, Reston, VA 20192.

FOR FURTHER INFORMATION CONTACT: Mr. Robin O'Malley, Climate and Land Use Change Mission Area, U.S. Geological Survey, 12201 Sunrise Valley Drive, Mail Stop 516, Reston, VA 20192, romalley@usgs.gov, (703) 648-4086.

SUPPLEMENTARY INFORMATION: In January 2015, Interior Secretary Jewell requested that the U.S. Geological Survey “establish and maintain a public database to account for the annual carbon emissions from fossil fuels developed on federal lands.” This meeting will provide a briefing on the basic methods, data sources, and likely format and content of project output. Results and data will not be presented; these will be contained in reports that undergo full USGS peer review and are expected in mid-2017. Note: In addition to carbon dioxide (CO2) and methane (CH4) emissions, the USGS project team was also able to obtain data for nitrous oxide (N2O) emissions.

Meeting Agenda: The objective of this meeting is to provide the public with a basic understanding of the methods being employed in this project and to ask questions. There will be several presentations followed by a question and answer period. Members of the public will be asked to state questions succinctly; written materials may be provided after the meeting (see contact information above) to expand upon any questions or comments.

The meeting location is open to the public and is wheel-chair accessible. Please contact USGS (see above) if additional assistive/interpretive or other services are required. We will do our best to meet any such needs. Public parking is available without charge in the USGS Visitor Lot.

Robin O'Malley,
Designated Federal Officer.

[FR Doc. 2016-27912 Filed 11-18-16; 8:45 am]

BILLING CODE 4338-11-P